CONSUMER PRODUCT SAFETY COMMISSION

Commission Agenda and Priorities; Public Hearing

AGENCY: Consumer Product Safety Commission.

ACTION: Notice of public hearing.

SUMMARY: The Commission will conduct a public hearing to receive views from all interested parties about its agenda and priorities for Commission attention during fiscal year 2003, which begins October 1, 2002. Participation by members of the public is invited. Written comments and oral presentations concerning the Commission's agenda and priorities for fiscal year 2003 will become part of the public record.

DATES: The hearing will begin at 10 a.m. on June 7, 2001. The Office of the Secretary must receive written comments and requests from members of the public desiring to make oral presentations not later than May 24, 2001. Persons desiring to make oral presentations at this hearing must submit a written text of their presentations not later than May 31, 2001.

ADDRESSES: The hearing will be in room 420 of the East-West Towers Building, 4330 East-West Highway, Bethesda, Maryland 20814. Written comments, requests to make oral presentations, and texts of oral presentations should be captioned “Agenda and Priorities” and mailed to the Office of the Secretary, Consumer Product Safety Commission, Washington, DC 20207, or delivered to that office, room 502, 4330 East-West Highway, Bethesda, Maryland 20814. Comments, requests, and texts of oral presentations may also be filed by telefacsimile to (301) 504-0127 or by e-mail to cpsc-os@cpsc.gov.

FOR FURTHER INFORMATION CONTACT: For information about the hearing, a copy of the Commission's strategic plan, or to request an opportunity to make an oral presentation, call or write Rockelle Hammond, Office of the Secretary, Consumer Product Safety Commission, Washington, D.C. 20207; telephone (301) 504-0800; telefacsimile (301) 504-0127; or by e-mail to cpsc-os@cpsc.gov. The strategic plan can also be obtained from the CPSC website at www.cpsc.gov.

SUPPLEMENTARY INFORMATION: Section 4(j) of the Consumer Product Safety Act (CPSA) (15 U.S.C. 2053(j)) requires the Commission to establish an agenda for action under the laws it administers, and, to the extent feasible, to select priorities for action at least 30 days before the beginning of each fiscal year. Section 4(j) of the CPSA provides further that before establishing its agenda and priorities, the Commission shall conduct a public hearing and provide an opportunity for the submission of comments.

The Office of Management and Budget requires all Federal agencies to submit their budget requests 13 months before the beginning of each fiscal year. The Commission is formulating its budget request for fiscal year 2003, which begins on October 1, 2002. This budget request must reflect the contents of the agency's strategic plan developed under GPRA.

Accordingly, the Commission will conduct a public hearing on June 7, 2001, to receive comments from the public concerning its agenda and priorities for fiscal year 2003. The Commissioners desire to obtain the views of a wide range of interested persons including consumers; manufacturers, importers, distributors, and retailers of consumer products; members of the academic community; consumer advocates; and health and safety officers of state and local governments.

The Commission is charged by Congress with protecting the public from unreasonable risks of injury associated with consumer products. The Commission enforces and administers the Consumer Product Safety Act (15 U.S.C. 2051 et seq.); the Federal Hazardous Substances Act (15 U.S.C. 1261 et seq.); the Flammable Fabrics Act (15 U.S.C. 1191 et seq.); the Poison Prevention Packaging Act (15 U.S.C. 1471 et seq.); and the Refrigerator Safety Act (15 U.S.C. 1211 et seq.). Standards and regulations issued under provisions of those statutes are codified in the Code of Federal Regulations, title 16, chapter II.

While the Commission has broad jurisdiction over products used by consumers, its staff and budget are limited. Section 4(j) of the CPSA expresses Congressional direction to the Commission to establish an agenda for action each fiscal year and, if feasible, to select from that agenda some of those projects for priority attention. These priorities are reflected in the current strategic plan.

Persons who desire to make oral presentations at the hearing on June 7, 2001, should call or write Rockelle Hammond, Office of the Secretary, Consumer Product Safety Commission, Washington, D.C. 20207, telephone (301) 504-0800, telefax (301) 504-0127, or e-mail, cpsc-os@cpsc.gov, no later than May 24, 2001. Persons who desire a copy of the current strategic plan may call or write Rockelle Hammond, office of the Secretary, CPSC, Washington DC 20207, telephone (301) 504-0800, (301) 504-0127, or may obtain it from the Commission's website at www.cpsc.gov.

Presentations should be limited to approximately ten minutes. Persons desiring to make presentations must submit the written text of their presentations to the Office of the Secretary not later than May 31, 2001. The Commission reserves the right to impose further time limitations on all presentations and further restrictions to avoid duplication of presentations. The hearing will begin at 10 a.m. on June 7, 2001 and will conclude the same day.

The Office of the Secretary should receive written comments on the Commission's agenda and priorities for fiscal year 2003, not later than May 24, 2001.

Dated: April 18, 2001.
Sadye E. Dunn,
Secretary, Consumer Product Safety Commission.

[FR Doc. 01-10166 Filed 4-24-01; 8:45 am]

BILLING CODE 6355-01-U